NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before May 2, 2005. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: records.mgt@nara.gov.

Fax: (301) 837-3698.

Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: (301) 837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Interior, Office of the Secretary (N1-48-05-2, 10 items, 10 temporary items). Files relating to the coordination and enactment of regulations promulgated by the Department as well as files relating to the Department's compliance with the Regulatory Flexibility Act of 1980. Also included are electronic copies of documents created using electronic mail and word processing.

2. Department of Justice, Drug Enforcement Administration (N1-170-04-7, 15 items, 15 temporary items). System inputs, outputs, master files, and documentation relating to the agency's public key infrastructure that supports the secure electronic transmission of business transactions and prescriptions for controlled substances. Also included are electronic copies of records created using electronic mail and word processing.

3. Department of the Navy, Naval Criminal Investigative Service (N1-NU-04-1, 5 items, 5 temporary items). Class curricula, rosters of participants, and individual and instructor training records accumulated by the Naval Criminal Investigative Service Academy. Also included are electronic copies of records created using electronic mail and word processing.

4. Department of the Navy, Naval Criminal Investigative Service (N1-NU-04-2, 3 items, 3 temporary items). Psychological autopsy records prepared to assist investigators in determining cause of death. Also included are electronic copies of records created using electronic mail and word processing.

5. Department of State, Bureau of Educational and Cultural Affairs (N1-59-05-2, 5 items, 3 temporary items). Schedules of daily activities of the Deputy Assistant Secretary for Academic Programs. Also included are electronic copies of records created using electronic mail and word processing. Proposed for permanent retention are recordkeeping copies of subject files and program files.

6. Department of State, Bureau of Educational and Cultural Affairs (N1-59-05-3, 6 items, 3 temporary items). American and foreign grantee files of the Office of Academic Exchange Programs. Also included are electronic copies of records created using electronic mail and word processing. Proposed for permanent retention are recordkeeping copies of subject/project files and program files of the office director and general country files of the program branches.

7. Department of State, Bureau of Educational and Cultural Affairs (N1-59-05-4, 5 items, 3 temporary items). Schedules of daily activities of the Deputy Assistant Secretary for Professional and Cultural Exchanges. Also included are electronic copies of records created using electronic mail and word processing. Proposed for permanent retention are recordkeeping copies of subject files and program files.

8. Department of State, Bureau of Educational and Cultural Affairs (N1-59-05-5, 10 items, 7 temporary items). Congressional correspondence, grantee files, project working files, and photograph files of the Office of Citizen Exchanges. Also included are electronic copies of records created using electronic mail and word processing. Proposed for permanent retention are recordkeeping copies of subject files and program files of the office director and general country files of the program divisions.

9. Department of State, Bureau of Educational and Cultural Affairs (N1-59-05-7, 10 items, 2 temporary items). Electronic copies of records created using electronic mail and word processing that are accumulated by the Cultural Property Advisory Committee. Proposed for permanent retention are recordkeeping copies of meeting files, request files, country files, subject files, program files, and report files.

10. Department of Transportation, Federal Aviation Administration (N1-237-05-1, 1 item, 1 temporary item). Files relating to applications for passports for crewmembers.

11. Department of Transportation, Bureau of Transportation Statistics (N1-570-05-1, 3 items, 3 temporary items). Correspondence and related records pertaining to the award, administration, and payment of contracts. Records are maintained and used by Contracting Officer Technical Representatives for contract documentation and oversight activities. Also included are electronic copies of records created using electronic mail and word processing. This schedule authorizes the agency to apply the proposed disposition instructions to records regardless of recordkeeping medium.

12. Department of Transportation, Federal Motor Carrier Safety Administration (N1-557-05-9, 10 items, 10 temporary items). Records accumulated by the Office of Human Capital Assets, including annual award files, chronological files, reference files, and management survey files. Also included are electronic copies of records created using electronic mail and word processing. This schedule authorizes the agency to apply the proposed disposition instructions to any recordkeeping medium.

13. Department of the Treasury, Internal Revenue Service (N1-58-05-4, 1 item, 1 temporary item). Inadvertent Taxpayer Data Access Forms used to document access to taxpayer information by agency employees when access is not supported by direct case assignment.

14. Department of the Treasury, Internal Revenue Service (N1-58-05-5, 1 item, 1 temporary item). Calendars, appointment books, schedules, logs, and diaries of the Director of the Equal Employment Opportunity and Diversity Field Services. This schedule applies to records in any recordkeeping medium.

15. Department of the Treasury, Internal Revenue Service (N1-58-05-6, 3 items, 3 temporary items). Correction input and output files and logs for Notice Registers, which contain taxpayer information used to send notices to taxpayers. This schedule also increases the retention period for the Notice Registers, which were previously approved for disposal.

16. Court Services and Offender Supervision Agency for the District of Columbia, Pretrial Services Agency (N1-562-05-1, 3 items, 3 temporary items). Supervision and treatment case files for defendants charged with criminal offenses and awaiting case disposition in Washington, DC. Also included are electronic copies of documents created using electronic mail and word processing.

17. Federal Energy Regulatory Commission, Agency-wide, (N1-138-05-1, 2 items, 2 temporary items). Annual reports of personal and professional information from persons holding interlocking positions in public utilities. Also included are electronic copies of records created using electronic mail and word processing.

Dated: March 10, 2005.
Michael J. Kurtz,
Assistant Archivist for Records Services—Washington, DC.

[FR Doc. 05-5245 Filed 3-16-05; 8:45 am]

BILLING CODE 7515-01-P